DEPARTMENT OF HOMELAND SECURITY

Coast Guard

[Docket No. USCG-2009-0973]

Random Drug Testing Rate for Covered Crewmembers

AGENCY: Coast Guard, DHS.

ACTION: Notice of minimum random drug testing rate.

SUMMARY: The Coast Guard has set the calendar year 2013 minimum random drug testing rate at 25 percent of covered crewmembers. The Coast Guard will continue to closely monitor drug test reporting to ensure the quality of the information. The Coast Guard may set the rate back up to 50 percent of covered crewmembers if the positive rate for random drug tests is greater than 1 percent for any one year, or if the quality of data is not sufficient to accurately assess the positive rate.

DATES: The minimum random drug testing rate is effective January 1, 2013, through December 31, 2013. Marine employers must submit their 2013 Management Information System (MIS) reports no later than March 15, 2014.

ADDRESSES: Annual MIS reports may be submitted by mail to Commandant (CG-INV), U.S. Coast Guard Headquarters, 2100 Second Street SW., STOP 7561, Washington, DC 20593-7581 or by electronic submission to the following Internet address: http://homeport.uscg.mil/Drugtestreports.

The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2009-0973 in the “Search” box, and then clicking “Search.”

FOR FURTHER INFORMATION CONTACT: For questions about this notice, please contact Mr. Robert C. Schoening, Drug and Alcohol Program Manager, Office of Investigations and Casualty Analysis (CG-INV), U.S. Coast Guard Headquarters, telephone 202-372-1033. If you have questions on viewing or submitting material to the docket, call Barbara Hairston, Program Manager, Docket Operations, telephone 202-366-9826.

SUPPLEMENTARY INFORMATION: Under 46 CFR 16.230, the Coast Guard requires marine employers to establish random drug testing programs for covered crewmembers. Every marine employer is required by 46 CFR 16.500 to collect and maintain a record of drug testing program data for each calendar year and submit this data by March 15 of the following year to the Coast Guard in an annual Management Information System (MIS) report. Marine employers may either submit their own MIS reports or have a consortium or other employer representative submit the data in a consolidated MIS report.

The Coast Guard annually sets the minimum drug testing rate for the coming year. The purpose of setting a minimum random drug testing rate is to assist the Coast Guard in analyzing its current approach for deterring and detecting illegal drug abuse in the maritime industry, and to encourage employers to maintain a drug-free workplace with the incentive of a reduced testing rate (and associated reduced costs). In every year of testing through 2012, the random testing rate has been 50 percent. In accordance with 46 CFR 16.230(f)(2), the Commandant may lower this rate to 25 percent if, for 2 consecutive years, the positive drug test rate is less than 1 percent.

MIS data indicates that the positive rate for random drug tests was 0.77 percent in 2011 and 0.74 percent in 2010. The Commandant is exercising his discretion to reduce the required random drug testing rate for calendar year 2013 to 25 percent of covered crewmembers. The Commandant may reset the rate to 50 percent of covered crewmembers if the positive rate for random drug tests is greater than 1 percent for any one year, or if the quality of data is not sufficient to accurately assess the positive rate.

The Coast Guard commends marine employers and mariners for their efforts to create a drug-free workplace and encourages marine employers and drug testing service providers to continue to submit accurate, complete and timely MIS data.

This notice is issued under authority of 46 CFR 16.230(f), which requires the Coast Guard to publish the results of random drug testing for the previous calendar year's MIS data and the minimum annual percentage rate for random drug testing for the next calendar year, and 5 U.S.C. 552(a).

Dated: January 4, 2013.
Paul F. Thomas,
Captain, U.S. Coast Guard, Director of Inspections and Compliance (CG-5PC).

[FR Doc. 2013-01236 Filed 1-22-13; 8:45 am]

BILLING CODE 9110-04-P